DEPARTMENT OF LABOR

Office of Disability Employment Policy

[Agency Docket Number DOL-2022-0002]

RIN 1230-ZA01

Request for Information on Current Population Survey Disability Supplement 2024

AGENCY: Office of Disability Employment Policy, U.S. Department of Labor.

ACTION: Request for information.

SUMMARY: The Department of Labor (Department) is seeking information from the public regarding a supplement to the Current Population Survey (CPS) on disability employment issues, which will be conducted by the Bureau of Labor Statistics (BLS) and the Census Bureau and is expected to be fielded in 2024. The Department is publishing this Request for Information (RFI) to gather information to aid in revising this CPS Disability Supplement and to inform its general disability employment research agenda.

DATES: Comments must be received by August 8, 2022.

ADDRESSES: To facilitate the receipt and processing of written comments on this RFI, the Department encourages interested persons to submit their comments electronically. You may submit comments, identified by Regulatory Information Number (RIN) 1230-ZA01, by either of the following methods:

Electronic Comments: Follow the instructions for submitting comments on the Federal eRulemaking Portal http://www.regulations.gov.

Mail: Address written submissions to David Rosenblum, Senior Economist, Research & Evaluation, Office of Disability Employment Policy, U.S. Department of Labor, Room S-1313, 200 Constitution Avenue NW, Washington, DC 20210.

Instructions: This RFI is available through the Federal Register and the http://www.regulations.gov website. You may also access this document via the Office of Disability Employment Policy's (ODEP) website at http://www.dol.gov/ odep. All comment submissions must include the agency name and Regulatory Information Number (RIN 1230-ZA01) for this RFI. Response to this RFI is voluntary and commenters need not reply to all questions listed below. The Department requests that no business proprietary information, copyrighted information, or personally identifiable information be submitted in response to this RFI. Submit only one copy of your comment by only one method (e.g., persons submitting comments electronically are encouraged not to submit paper copies). Please be advised that comments received will become a matter of public record and will be posted without change to http://www.regulations.gov, including any personal information provided. All comments must be received by 11:59 p.m. on the date indicated for consideration in this RFI; comments received after the comment period closes will not be considered. Commenters should transmit comments early to ensure timely receipt prior to the close of the comment period. Electronic submission via http://www.regulations.gov enables prompt receipt of comments submitted as the Department continues to experience delays in the receipt of mail in our area. For access to the docket to read background documents or comments, go to the Federal eRulemaking Portal at http://www.regulations.gov.

FOR FURTHER INFORMATION CONTACT: David Rosenblum, Senior Economist, Office of Disability Employment Policy, U.S. Department of Labor, Room S-1313, 200 Constitution Avenue NW, Washington, DC 20210; telephone: (202) 693-7840 or visit https://www.dol.gov/dol/contact/contactphonecallcenter.htm (TTY), for information about this notice.

SUPPLEMENTARY INFORMATION:

I. Background

BLS and the Census Bureau have previously conducted three supplements to the CPS on disability employment issues, in May 2012, July 2019, and July 2021. The basic monthly CPS has existed since the 1940s and is the source of official government statistics on the unemployment rate and other labor market measures. Similar to the previous versions, the 2024 Disability Supplement will be conducted alongside the basic monthly CPS, and therefore the same detailed demographic information collected in the basic monthly CPS will be available for respondents to the Disability Supplement, allowing for comparisons across demographic characteristics, including sex, race, ethnicity, age, and educational attainment. It will also be possible to create estimates for those who are employed, unemployed, and not in the labor force. Because the CPS is a rich source of information on the employment status of the population, it will be possible to examine in detail the nature of various employment and unemployment situations for individuals with disabilities.

The CPS began tracking disability status in June 2008 by asking six questions, with anyone answering affirmatively to at least one question classified as having a disability. These six questions are also used in other national surveys such as the American Community Survey and various other federal surveys. The six questions ask whether a person: (1) is deaf or has serious difficulty hearing, (2) is blind or has serious difficulty seeing (even with the assistance of corrective lenses), (3) has serious difficulty concentrating, remembering, or making decisions, (4) has serious difficulty walking or climbing stairs, (5) has difficulty dressing or bathing, and (6) has difficulty doing errands alone.

Data from the basic monthly CPS had revealed large disparities in labor market outcomes between people with and without disabilities, but more information was needed to understand the challenges facing people with disabilities and to improve programs and policies designed to help people with disabilities. To respond to this need, BLS and the Census Bureau have conducted three supplements to the CPS on disability employment issues, in May 2012, July 2019, and July 2021. The first round was sponsored by ODEP while the subsequent rounds were sponsored by DOL's Chief Evaluation Office. Given the work-related focus of the CPS, the Disability Supplement was designed to capture data on specific issues relating to employment. It aimed to (1) uncover more detail about the low labor force participation rates for people with disabilities, (2) understand the effectiveness of existing programs intended to prepare people with disabilities for employment, (3) provide more information about the work history of people with disabilities, (4) identify barriers to employment for people with disabilities, (5) learn more about workplace accommodations that assist people with disabilities, and (6) measure the extent and effectiveness of financial assistance programs. The 2012 Disability Supplement found that, of people with disabilities who were employed, more than half had some difficulty completing their work duties due to their disability. Barriers to employment included lack of education or training, lack of transportation, need for accommodations at the workplace, and a person's own disability.

The 2019 CPS Disability Supplement, which included the same set of questions as the 2012 version, was conducted to capture the effects of changes in the intervening seven years in work patterns, assistive technologies, and public policies on employment barriers for people with disabilities. Of people with disabilities who were not employed, almost half reported at least one barrier to employment, such as a person's own disability, lack of education or training, lack of transportation, or the need for job accommodations.

The third CPS Disability Supplement was conducted in July 2021 during the COVID-19 pandemic, using the same set of questions from the prior versions of the survey. This update provided information about how barriers to employment for people with disabilities may have changed as a result of the pandemic. The 2021 survey showed, of persons with a disability who were not employed, there had been a small decrease in the proportion of those reporting some type of barrier to employment, relative to the 2019 CPS Disability Supplement.

A fourth CPS Disability Supplement is being prepared, to be conducted in 2024. This Disability Supplement provides an opportunity to reconsider the questions asked in the survey in light of the socioeconomic changes that have taken places since the development of the current set of questions more than ten years ago.

Interested parties can find the most recent questionnaire at Attachment 8 of: https://www2.census.gov/programs-surveys/cps/techdocs/cpsjul21.pdf.

Request for Information

Through this RFI, we are soliciting feedback from interested and affected parties on the data collection that will be undertaken via the fourth CPS Disability Supplement, for addressing disability employment related issues addressed in the previous three Disability Supplements.¹ Comments to this RFI will inform decisions regarding the topics, questions, and response options included in the Disability Supplement. We encourage commenters to provide detail about why they recommend certain revisions, which could include, but are not limited to, informing policy, identifying a relevant subpopulation of the disability community, reducing respondent burden, or making the questions clearer to survey respondents. This RFI notice is for internal planning purposes only and should not be construed as a solicitation or as an obligation on the part of DOL or any participating federal agencies.

¹ Technical documentation for the 2021 CPS Disability Supplement can be downloaded at https://www.census.gov/data/datasets/time-series/demo/cps/cps-supp_cps-repwgt/cps-disability.html. The supplement begins on page 113 of the PDF file.

We ask commenters to address the following questions in the context of the preceding discussion in this document. Commenters do not need to address every question and should focus on those that relate to their expertise or perspective. To the extent possible, please clearly indicate the question(s) addressed in your response.

Questions

Work History

1. Should the question about difficulty completing current work duties (location 1003-1004) be rephrased in any way? Should the response options be altered?

2. Should there be more extensive questions about past work experience than the single one (location 1005-1006) previously used?

3. Should the question on departure from a job (location 1007-1008) due to disability distinguish between voluntarily leaving a job and being terminated from a job in the response options?

Barriers to Employment

4. Should the set of questions about barriers to employment (locations 1009-1010 through—1025-1026), also be asked of those currently employed and/or those who are not identified as having a disability?

5. Should the categorization of barriers (locations 1009-1010 through 1025-1026) be altered in any way, whether by adding to, removing, or rephrasing the existing categories?

6. Should the question asking about ability to work in the absence of barriers (location 1027-1028) consist of a set of questions, with the response to each recorded separately for each type of barrier identified in the preceding set of questions?

Employment Services and Vocational Rehabilitation

7. Should the categorization of employment services (locations 1029-1030 through 1055-1056) be altered in any way, whether by adding to, removing, or rephrasing the existing categories?

8. Should the response options be altered for the corresponding set of questions (locations 1031-1032, 1035-1036, 1039-1040, 1043-1044, 1047-1048, 1051-1052, and 1055-1056) asking, of those who received assistance from a particular type of employment service, how helpful these services were?

Job Accommodations

9. Should the categorization of job accommodations (locations 1059-1060 through 1075-1076) be altered in any way, whether by adding to, removing, or rephrasing the existing categories?

10. Should there be any questions asked about past requests for job accommodations, prior to the job in the current workplace?

Commuting and Work Hours

11. Should the categorization of transportation commuting modes (locations 1079-1080 through 1099-1100) be altered in any way, whether by adding to, removing, or rephrasing the existing categories?

12. Should there be any questions about how telework/work-at-home options have changed since the onset of the COVID-19 pandemic?

13. Should the categorization of reasons for work-at-home (locations 1109-1110 through 1127-1128) be altered in any way, whether by adding to, removing, or rephrasing the existing categories?

Financial Assistance

14. Should the categorization of financial assistance programs (locations 1133-1134 through 1151-1152) be altered in any way, whether by adding to, removing, or rephrasing the existing categories?

15. Should the question asking about having worked less due to a constraint from a financial assistance program (location 1153-1154) instead consist of a set of questions, with the response to each recorded separately, for each type of financial assistance program identified in the preceding set of questions?

General

16. Are there any gaps in existing information about disability employment that have not been addressed by the questions contained in the past disability supplements but that could be considered for this future CPS Disability Supplement?

17. Which existing questions or sets of questions, if any, should be removed from the survey? Please include a reason for your suggested removal. Some possible reasons for suggesting removal may include: lack of practical utility (or lesser utility compared with potential new questions), challenges to collecting accurate data through a household survey, or socioeconomic or policy changes obviating the continued need for a previously important question.

Signed at Washington, DC this 17th day of June, 2022.
Taryn Williams,
Assistant Secretary for Disability Employment Policy.

[FR Doc. 2022-13481 Filed 6-23-22; 8:45 am]

BILLING CODE 4510-FK-P